DEPARTMENT OF THE INTERIOR

Bureau of Land Management

[LLCO923000-L1440000-ET0000;COC-080815]

Notice of Proposed Withdrawal and Public Meeting, Thompson Divide Area, Colorado

AGENCY: Bureau of Land Management (BLM), Interior.

ACTION: Notice of proposed withdrawal.

SUMMARY: On behalf of the Bureau of Land Management (BLM) and the U.S. Department of Agriculture (USDA), Forest Service, the Secretary of the Interior proposes to withdraw approximately 224,793.73 acres, including approximately 200,518.28 acres of National Forest System lands, approximately 15,464.99 acres of BLM-managed public lands, and approximately 8,810.46 acres of reserved Federal mineral interest, from all forms of entry, appropriation, and disposal under the public land laws; location, entry, and patent under the mining laws; and operation of the mineral leasing, mineral materials, and geothermal leasing laws, subject to valid existing rights. The boundary of the proposed withdrawal area also includes approximately 35,472.94 acres of non-Federal lands with no Federal interest, which would not be subject to the proposed withdrawal unless they are subsequently acquired by the Federal Government. The withdrawal is proposed for a period of 20 years to protect agricultural, ranching, wildlife, air quality, recreational, ecological, and scenic values in the Thompson Divide Area of Colorado. This notice segregates the land for 2 years from all forms of entry, appropriation, and disposal under the public land laws; location, entry, and patent under the mining laws; and operation of the mineral leasing, mineral materials, and geothermal leasing laws, subject to valid existing rights, and initiates a 90-day public comment period on the proposed withdrawal.

DATES: Comments must be received by the BLM January 16, 2023. A public meeting is scheduled for December 14, 2022.

ADDRESSES: Comments should be sent to State Director, Bureau of Land Management, Colorado State Office, 2850 Youngfield Street, Lakewood, Colorado 80215, or email them to: BLM_CO_Thompson_Divide@blm.gov. Information regarding the proposed withdrawal will be available at the BLM Colorado State Office and at the USDA Forest Service, Rocky Mountain Region, 1617 Cole Boulevard, Building 17, Lakewood, Colorado 80401.

A meeting will be held on December 14, 2022, at the Carbondale & Rural Fire Protection District, 300 Meadowood Drive, Carbondale, CO 81623.

FOR FURTHER INFORMATION CONTACT: Jennifer Jardine, Senior Realty Specialist, BLM Colorado State Office, telephone: (970) 385-1224; email: jjardine@blm.gov. Individuals in the United States who are deaf, deafblind, hard of hearing, or have a speech disability may dial 711 (TTY, TDD, or TeleBraille) to access telecommunications relay services for contacting Ms. Jardine. Individuals outside the United States should use the relay services offered within their country to make international calls to the point-of-contact in the United States.

SUPPLEMENTARY INFORMATION: The petitioner is the BLM, with consent from the applicant, the USDA Forest Service. The petition/application requests the Secretary of the Interior to withdraw the following Federal lands and interests in lands, and all non-Federal lands that are subsequently acquired by the Federal Government, from all forms of entry, appropriation, and disposal under the public land laws; location, entry, and patent under the mining laws; and operation of the mineral leasing, mineral materials, and geothermal leasing laws, subject to valid existing rights:

National Forest System Lands

New Mexico Principal Meridian, Colorado

T. 51 N., R. 5 W.,

Secs. 7 and 18, unsurveyed;

Sec. 19, unsurveyed, that portion lying westerly of the Crawford Reservoir sub-watershed boundary and that portion lying westerly of the Muddy Creek sub-watershed boundary;

Sec. 30, unsurveyed, that portion lying westerly of the Muddy Creek sub-watershed boundary.

T. 50 N., R. 5½ W.,

Secs. 1, 2, and 11, those portions lying westerly of the Muddy Creek sub-watershed boundary.

T. 51 N., R. 5½ W.,

Secs. 11 thru 14 and sec. 24;

Secs. 25 and 36, those portions lying westerly of the Muddy Creek sub-watershed boundary.

T. 50 N., R. 6 W.,

Sec. 1;

Sec. 11, that portion lying easterly of the Gunnison/Montrose County boundary;

Secs. 12 and 13, those portions lying westerly of the Muddy Creek sub-watershed boundary;

Sec. 14, that portion lying easterly of the Gunnison/Montrose County boundary and northerly of the Crystal Creek or Iron Creek sub-watershed boundary.

Sixth Principal Meridian, Colorado

T. 13 S., R. 86 W.,

Sec. 19, that portion lying easterly of the Raggeds Wilderness Area boundary;

Sec. 29, W½;

Sec. 30, excepting M.S. Nos. 3831, 3832, 4243, 4472, 4767, 4768, 4469, 5600, 7129, 8496 and 12805;

Sec. 32, N½.

T. 14 S., R. 86 W.,

Sec. 6, lots 4 thru 7;

Sec. 18, lots 3 and 4, E½SW¼, and SE¼;

Secs. 19 and 20;

Sec. 21, W½;

Sec. 26, SW¼;

Sec. 27;

Sec. 28, lots 1 thru 4, W½NE¼, E½NW¼, NW¼NW¼, E½SW¼, SW¼SW¼, and W½SE¼;

Sec. 29, NE¼NE¼, W½NE¼, W½, W½SE¼, and SE¼SE¼;

Sec. 30, lots 5 and 6, lots 11 thru 14, and lots 19 and 20;

Sec. 32, N½;

Sec. 33, lots 1 and 2, W½NE¼, and NW¼;

Sec. 34, N½;

Sec. 35, N½;

T. 13 S., R. 87 W.,

Sec. 20, unsurveyed, that portion lying southeasterly of the Raggeds Wilderness Area;

Sec. 21, unsurveyed, that portion lying southeasterly of the Raggeds Wilderness Area boundary, excepting M.S. Nos. 14344, 15668, 17918, and 17919;

Sec. 22, unsurveyed, that portion lying southwesterly of the Raggeds Wilderness Area boundary, excepting M.S. No. 2694;

Sec. 24, unsurveyed, those portions lying easterly of the Raggeds Wilderness Area boundary;

Sec. 25, unsurveyed, that portion lying easterly and southerly of the Raggeds Wilderness Area boundary, excepting M.S. Nos. 3831, 3831, and 4124;

Sec. 26, unsurveyed, that portion lying southerly of the Raggeds Wilderness Area boundary, excepting M.S. Nos. 1286 and 2721;

Sec. 27, unsurveyed, that portion lying southwesterly of the Raggeds Wilderness Area boundary, excepting M.S. Nos. 2701, 2703, 2813, 2814, 2867, 3440, 3466, 3504, 3728, 3729, 3804, 4149, 4421, 5146, 5322, 5511, 14392, and 17240;

Sec. 28, unsurveyed, that portion lying easterly of the Raggeds Wilderness Area boundary, excepting M.S. Nos. 1109, 1110, 1112, 2753, 2754, 2935, 3082, 3440, 3504, 3511, 3804, M.S. Nos. 4446 thru 4449, and M.S. Nos. 5146, 5147, 6382, 14344, 14392, 17240, 17919, and 20024;

Sec. 29, unsurveyed, that portion lying easterly and southerly of the Raggeds Wilderness Area boundary;

Secs. 30 thru 32, unsurveyed, those portions lying southerly of the Raggeds Wilderness Area boundary;

Sec. 33, unsurveyed, excepting M.S. Nos. 1156, 2731, 2935, 3470 A&B, 3471 A&B, 3716, 3804, 4445, 5146, 5147, 5870, and 20023, and S.T.A. No. 0441;

Sec. 34, unsurveyed, excepting M.S. Nos. 1156, 2702, 2703, 2731, 2786, 2801, 2814, 3299, 3466, 3467, 3503, 3737, 4421, 5342, 5511, 7123, the Irwin Townsite, and S.T.A. Nos. 0440, 0441, and 0442;

Sec. 35, unsurveyed, excepting M.S. Nos. 745, 1286, and 2693, M.S. Nos. 2695 thru 2700, and M.S. Nos. 2709, 2724, 3386, 3768, 4005, 4236, 4257, 4258, 4955, 5342, 5343, 5520, 7123, 8067, and 17714;

Sec. 36, unsurveyed, excepting M.S. Nos. 2693, 2697, 2724, 2829, 2863, 3386, 3390, 4124, 7856, 17714, and 20926;

T. 14 S., R. 87 W.,

Sec. 1;

Sec. 2, excepting M.S. Nos. 745, 1209, and 2989, M.S. Nos. 2695 thru 2700, and M.S. Nos. 2989, 3137, 3768, 3801, 3802, 4257, 4955, 15096, and 19527;

Sec. 3, excepting M.S. Nos. 745, 1209, 1348, 3542, 3736 A, 3737, 4401, and 4955, and the Irwin Townsite;

Secs. 4 thru 8;

Sec. 9, N½;

Sec. 10, N½, N½SW¼, and SE¼;

Sec. 11, excepting M.S. Nos. 2989, 3801, and 15096;

Secs. 12 and 13;

Sec. 14, that portion lying northerly of the Coal Creek sub-watershed boundary and that portion lying westerly of the Ruby Anthracite Creek sub-watershed boundary and northerly of the West Elk Wilderness Area boundary;

Sec. 15, that portion lying northeasterly of the West Elk Wilderness Area boundary;

Sec. 23, that portion lying northerly of the Coal Creek sub-watershed boundary;

Sec. 24.

T. 9 S., R. 88 W.,

Sec. 4, lot 2, W½, SW¼SE¼, and W½SE¼SE¼, partly unsurveyed;

Secs. 5 and 6, unsurveyed;

Sec. 7, unsurveyed, except H.E.S. No. 370;

Sec. 8, unsurveyed;

Sec. 9, NE¼, W½, and W½SE¼, partly unsurveyed, those portions lying westerly of the easterly ordinary high-water mark, an ambulatory line, of the Crystal River;

Sec. 16, NW¼, W½SW¼, and NW¼NW¼SE¼, partly unsurveyed, those portions lying westerly of the easterly ordinary high-water mark, an ambulatory line, of Crystal River

Sec. 17, unsurveyed;

Sec. 18, unsurveyed, excepting H.E.S. No. 370;

Sec. 19, unsurveyed;

Sec. 20, partly unsurveyed, that portion lying westerly of the easterly ordinary high-water mark, an ambulatory line, of the Crystal River;

Sec. 21, NW¼NW¼, and SW¼SW¼, those portions lying westerly of the easterly ordinary high-water mark, an ambulatory line, of the crystal river, and a parcel of land as described in book 518, page 282, recorded on September 5, 1986, Pitkin county, Colorado, lying westerly of easterly ordinary high-water mark, an ambulatory line, of the Crystal River;

Sec. 29, N½NE¼ and W½, partly unsurveyed, those portions lying westerly of the easterly ordinary high-water mark, an ambulatory line, of the Crystal River;

Secs. 30 and 31, unsurveyed;

Sec. 32, S½NE¼, W½, and SE¼, partly unsurveyed, those portions lying westerly of easterly ordinary high-water mark, an ambulatory line, of the Crystal River;

Sec. 33, lots 12, 20, and 23, those portions lying westerly of easterly ordinary high-water mark, an ambulatory line, of the Crystal River.

T. 10 S., R. 88 W.,

Sec. 4, lot 5, SW¼NW¼, and W½SW¼;

Secs. 5 thru 7;

Sec. 8, that portion lying westerly of the easterly ordinary high-water mark, an ambulatory line, of the Crystal River;

Sec. 9, W½SW¼, that portion lying westerly of the easterly ordinary high-water mark, an ambulatory line, of the Crystal River;

Sec. 17, NW¼NE¼ and NW¼;

Sec. 18, lots 5 thru 10, NE¼, and E½NW¼;

Sec. 19, lots 1 thru 4, W½NE¼, SE1/NE¼, E½NW¼, E½SW¼, and SE¼;

Secs. 30 and 31, those portions lying westerly of easterly ordinary high-water mark, an ambulatory line, of the Crystal River.

T. 11 S., R. 88 W.,

Sec. 6, lots 1 thru 8, lots 10 thru 15, and lots 17 and 18, E½SW¼, and NW¼SE¼, those portions lying westerly of the easterly ordinary high-water mark, an ambulatory line, of the Crystal River, excepting those portions of lots 2, 7 and 10 not reconveyed to the United States as described in Special Warranty Deed in book 788, page 29, recorded on July 24, 1995, Pitkin county, Colorado.

T. 12 S., R. 88 W.,

Sec. 19, that portion lying southerly of the Raggeds Wilderness Area boundary;

Sec. 20, that portion lying southerly and westerly of the Raggeds Wilderness Area boundary;

Sec. 27, that portion lying westerly of the Raggeds Wilderness Area boundary;

Sec. 28, excepting the Raggeds Wilderness Area;

Sec. 29, that portion lying southerly and westerly of the Raggeds Wilderness Area boundary;

Sec. 30, lots 1 thru 4, NW¼NE¼, S½NE¼, E½NW¼, E½SW¼, and SE¼;

Sec. 31;

Secs. 32 and 33, those portions lying northwesterly of the Raggeds Wilderness Area boundary.

T. 13 S., R. 88 W.,

Sec. 6, lots 1 thru 5, lots 7 thru 14, and lots 16 thru 22, SE¼, E.S. No. 366 Tract A, and a parcel of land donated to the United States as described in Book 259, Page 348, recorded on December 1, 1936, Gunnison County, Colorado;

Sec. 7;

Sec. 17, partly unsurveyed, that portion lying southwesterly of the Raggeds Wilderness Area boundary;

Sec. 18;

Sec. 19, lot 7 and lots 9 thru 12, N½NE¼, N½SW¼NE¼, N½SE¼NE¼, SW¼SE¼, and W½SE¼SE¼;

Sec. 20, N½, E½SW¼, E½NE¼SW¼SW¼, E½SE¼SW¼SW¼, and SE¼, those portions lying southwesterly of the Raggeds Wilderness Area boundary;

Secs. 21, 22, 25, 26, and 27, those portions lying southerly of the Raggeds Wilderness Area boundary;

Sec. 28;

Sec. 29, E½, E½NW¼, E½NE¼NW¼NW¼, E½SW¼NW¼NW¼, SW¼SW¼NW¼NW¼, SE¼NW¼NW¼, SW¼NW¼, and SW¼;

Sec. 30, lots 1 thru 9 and lots 12, 13, and 14, W½NE¼NE¼, W½SE¼NE¼NE¼, SE¼SE¼NE¼NE¼, E½NE¼, SE¼NE¼, and SE¼;

Secs. 31 thru 34;

Sec. 35; that portion lying southwesterly of the Raggeds Wilderness Area boundary;

Sec. 36, that portion lying southerly of the Raggeds Wilderness Area boundary.

T. 14 S., R. 88 W.,

Secs. 1 thru 5, unsurveyed;

Sec. 6, unsurveyed, that portion lying northerly of the West Elk Wilderness Area boundary;

Secs. 7 and 8, unsurveyed, those portions lying northeasterly of the West Elk Wilderness Area boundary;

Secs. 9 and 10, unsurveyed, those portions lying northerly of the West Elk Wilderness Area boundary;

Secs. 11 and 12, unsurveyed;

Sec. 13, unsurveyed, that portion lying northeasterly of the West Elk Wilderness Area boundary;

Secs. 14 and 15, unsurveyed, those portions lying northerly of the West Elk Wilderness Area boundary;

Sec. 16, unsurveyed, that portion lying northeasterly of the West Elk Wilderness Area boundary.

T. 7 S., R. 89 W.,

Sec. 17, that portion lying easterly of the Fourmile Creek sub-watershed boundary;

Sec. 19, those portions lying southerly of the Fourmile Creek sub-watershed boundary;

Sec. 20, that portion lying southeasterly of the Fourmile Creek sub-watershed boundary;

Sec. 21, N½NE¼, W½, and W½SE¼;

Sec. 28, N½, SW¼, N½SE¼, and SW¼SE¼;

Sec. 29;

Sec. 30, that portion lying southerly of the Fourmile Creek sub-watershed boundary;

Sec. 31, lots 4, 5, 8, and 9, N½NE¼, N½SW¼NE¼, SE¼NE¼, N½NE¼NW¼, N½SW¼NE¼NW¼, SE¼SW¼NE¼NW¼, SE¼NE¼NW¼, N½NE¼SE¼NW¼, SE¼NE¼SE¼NW¼, E½NW¼SW¼, and SE¼;

Sec. 32, NE¼NE¼, NE¼NW¼, W½NW¼, W½SW¼, SE¼SW¼, and SE¼;

Sec. 33, NW¼NE¼, NW¼NW¼, and SE¼SW¼.

T. 8 S., R. 89 W.,

Sec. 3, lots 1 and 2, S½NE¼, NW¼SW¼, and NE¼SE¼;

Sec. 4, lots 2, 3, and 4, SW¼NE¼, S½NW¼, and S½;

Secs. 5 thru 8;

Sec. 9, SE¼NE¼, NE¼NW¼, W½NW¼, and S½;

Sec. 10, W½NW¼ and NW¼SW¼;

Sec. 15, S½NW¼, N½SW¼, and SW¼SW¼;

Sec. 16, W½NE¼, SE¼NE¼, W½, and SE¼;

Sec. 17, NE¼, W½, and SW¼SE¼;

Secs. 18 and 19;

Sec. 20, W½NE¼, SE¼NE¼, W½, and SE¼;

Sec. 21;

Sec. 22, NW¼NW¼, S½NW¼, and SW¼;

Sec. 27, W½;

Sec. 28, E½ and S½SW¼;

Sec. 29, N½NE¼, N½SW¼NE¼, NW¼, S½NE¼SW¼SW¼, S½NW¼SW¼SW¼, S½SW¼SW¼, S½NE¼SE¼SW¼, S½NW¼SE¼SW¼, and S½SE¼SW¼;

Sec. 30, lots 1 thru 4, N½NE¼, E½NW¼, E½SW¼, and S½SE¼;

Secs. 31, 32, and 33;

Sec. 34, W½NW¼ and SW¼.

T. 9 S., R. 89 W.,

Sec. 1, lots 1 thru 4, S½NW¼, NW¼SW¼, S½SW¼, NE¼SE¼, and SW¼SE¼;

Sec. 2, lots 1 and 2, S½NE¼, and SE¼;

Sec. 3, lots 3 and 4, S½NW¼, and SW¼;

Secs. 4 thru 9;

Sec. 10, W½ and SE¼SE¼;

Sec. 11, NE¼, N½SE¼, and SE¼SE¼;

Sec. 12, W½NE¼, NW¼, and W½SE¼;

Sec. 13;

Sec. 14, E½NE¼, W½NW¼, W½SW¼, and E½SE¼;

Sec. 15, NE¼NE¼, S½NE¼, NW¼, and S½;

Secs. 16 and 17;

Sec. 18, that portion lying easterly of the Gunnison/Mesa County boundary;

Secs. 19 thru 22;

Sec. 23, E½NE¼, W½NW¼, and E½SE¼;

Secs. 24 and 25;

Sec. 26, E½NE¼ and SE¼;

Sec. 27, N½, N½SW¼, SW¼SW¼, and SE¼;

Secs. 28 thru 33;

Sec. 34, N½NE¼, W½NW¼, W½SW¼, SE¼SW¼, and NE¼SE¼;

Sec. 35, E½ and W½SW¼;

Sec. 36.

T. 10 S., R. 89 W.,

Sec. 1;

Sec. 2, lots 1 and 2, S½NE¼, SE¼NW¼, and S½;

Sec. 3, lots 3 and 4, S½NE¼, S½NW¼, and S½;

Sec. 4, lots 1 thru 4, SW¼NE¼, S½NW¼, SW¼, and SW¼SE¼;

Sec. 5 thru 9;

Sec. 10, N½, N½SW¼, N½SW¼SW¼, N½SW¼SW¼SW¼, N½SE¼SW¼SW¼, N½SE¼SW¼, N½SW¼SE¼SW¼, N½SW¼SE¼, N½SW¼SW¼SE¼, N½SE¼SW¼SE¼, N½NE¼SE¼, SW¼NE¼SE¼, W½SE¼NE¼SE¼, and NE¼SE¼NE¼SE¼;

Sec. 11, lots 1 thru 8, NW¼, N½SW¼, and a parcel of land as described in special warranty deed recorded under document No. 405835 on June 30, 1997, Pitkin County, Colorado;

Secs. 12, 13, and 14;

Sec. 15, SE¼NE¼NE¼, S½SW¼NE¼NE¼, S½SE¼NW¼NE¼, S½SW¼NW¼NE¼, S½NE¼, S½SE¼NW¼NW¼, S½SW¼NW¼NW¼, S½NW¼, and S½;

Secs. 16 thru 36.

T. 11 S., R. 89 W.,

Secs. 1 thru 6;

Sec. 9, N½NE¼NE¼, NW¼NE¼, N½SW¼NE¼, SW¼SW¼NE¼, SE¼SE¼NE¼, NW¼, W½NE¼SW¼, NW¼SW¼, S½SW¼, E½SE¼, and SW¼SE¼;

Sec. 10, E½, E½NW¼, SW¼NW¼, and SW¼;

Sec. 11;

Sec. 12, that portion lying westerly of the Grand Mesa, Uncompahgre, and Gunnison National Forests boundary and that portion northerly of the Pitkin County boundary;

Sec. 13, that portion lying westerly of the Grand Mesa, Uncompahgre, and Gunnison National Forests boundary;

Secs. 14, 15, 16, and 21;

Sec. 22, NE¼, W½, and N½SE¼;

Sec. 23, N½;

Sec. 24, NW¼;

Sec. 26, S½, unsurveyed, that portion lying westerly of Raggeds Wilderness Area boundary;

Sec. 27, NW¼, S½SW¼, and S½SE¼;

Secs. 28 and 33;

Sec. 34, that portion lying northwesterly of the Raggeds Wilderness Area boundary;

Sec. 35, unsurveyed, that portion lying westerly of the Raggeds Wilderness Area boundary.

T. 12 S., R. 89 W.,

Secs. 2 and 3, those portions lying westerly of the Raggeds Wilderness Area boundary;

Sec. 10;

Secs. 11, 12, and 13, those portions lying westerly of the Raggeds Wilderness Area boundary;

Secs. 14 and 23;

Sec. 24, that portion lying southwesterly and westerly of the Raggeds Wilderness Area boundary;

Sec. 25;

Sec. 26, E½.

T. 13 S., R. 89 W.,

Sec. 7, SE¼;

Sec. 8, lot 7, that portion lying southerly of Anthracite Creek, lots 11 thru 14, and W½SW¼;

Sec. 9, lot 9 and NW¼SW¼, those portions lying southerly of Anthracite Creek,

Secs. 13, 14, and 15;

Sec. 16, lots 1 thru 6 and S½;

Sec. 17, that portion lying easterly of the Anthracite Creek sub-watershed boundary and that portion lying northwesterly of the Bear Creek-North Fork sub-watershed boundary;

Sec. 18, that portion lying northeasterly of the Bear Creek-North Fork Gunnison River sub-watershed boundary;

Secs. 20 and 21, those portions lying northeasterly of the Anthracite Creek sub-watershed boundary;

Secs. 22 and 23;

Sec. 24, W½NE¼, N½NW¼, NW¼NE¼SE¼, S½NE¼SE¼, and SE¼SE¼;

Sec. 25, NE¼NE¼, N½SE¼NE¼, SW¼SE¼NE¼, W½NW¼, N½SW¼, E½SW¼SW¼, SE¼SW¼, W½SE¼, N½NW¼NE¼SE¼, and SW¼NW¼NE¼SE¼, and SE¼SE¼SE¼, excepting H.E.S. No. 81;

Sec. 26, N½, SW¼, N½SE¼, W½SW¼SE¼, excepting H.E.S. No. 81;

Sec. 27;

Sec. 28, that portion lying northerly of the Anthracite Creek sub-watershed boundary and that portion lying easterly of the Outlet Coal Creek sub-watershed boundary;

Sec. 33, that portion lying easterly of the Outlet Coal Creek sub-watershed boundary;

Sec. 34;

Sec. 35, W½NW¼NE¼, S½NE¼, W½, and SE¼;

Sec. 36, E½, NE¼NW¼, E½NW¼NW¼, S½NW¼, and SW¼.

T. 14 S., R. 89 W.,

Sec. 1, that portion lying northerly of the West Elk Wilderness Area boundary;

Sec. 2;

Sec. 3, that portion lying northerly of the West Elk Wilderness Area boundary;

Sec. 4, lots 5, 6, and 7, S½NE¼, SE¼NW¼, E½SW¼, and SE¼, those portions lying easterly of the Outlet Coal Creek sub-watershed and northwesterly of the West Elk Wilderness boundary;

Sec. 9, N½NE¼, that portion lying northerly of the West Elk Wilderness Area boundary;

Sec. 10, lots 1, 2, and 3, those portions lying easterly of the West Elk Wilderness Area boundary;

Sec. 11, lots 1 thru 4 and NE¼, those portions lying northwesterly of the West Elk Wilderness Area boundary;

Sec. 12, that portion lying northerly of the West Elk Wilderness Area boundary;

Sec. 14, lot 3, SW¼NW¼, and W½SW¼, those portions lying westerly of the West Elk Wilderness Area boundary;

Sec. 15, lot 1, SE¼NE¼, and E½SE¼, those portions lying easterly of the West Elk Wilderness Area boundary;

Sec. 22, that portion lying easterly of the West Elk Wilderness Area boundary;

Sec. 23, excepting the West Elk Wilderness Area;

Sec. 24, that portion lying southwesterly of the West Elk Wilderness Area boundary;

Sec. 25, excepting H.E.S. No. 266 and the West Elk Wilderness Area;

Sec. 26, that portion lying northerly of the West Elk Wilderness Area boundary;

Sec. 36, NE¼ and E½NW¼, excepting H.E.S. No. 266.

T. 8 S., R. 90 W.,

Secs. 1 and 2, unsurveyed;

Secs. 3 and 10, unsurveyed, those portions lying easterly of the Fourmile Creek sub-watershed boundary;

Secs. 11, 12, 13, and 14, unsurveyed;

Secs. 15, unsurveyed, that portion lying southeasterly of the Gunnison/Mesa County boundary;

Secs. 21, unsurveyed, that portion lying easterly of the Gunnison/Mesa County boundary;

Sec. 22, unsurveyed, that portion lying southeasterly of the Gunnison/Mesa County boundary;

Secs. 23 thru 27, unsurveyed;

Secs. 28 and 29, unsurveyed, those portions lying southeasterly of the Gunnison/Mesa County boundary;

Sec. 32, unsurveyed, that portion lying easterly of the Gunnison/Mesa County boundary;

Secs. 33 thru 36, unsurveyed.

T. 9 S., R. 90 W.,

Sec. 1, unsurveyed;

Secs. 2 thru 5 and sec. 10, unsurveyed, those portions lying northerly of the Gunnison/Mesa County boundary;

Sec. 11, unsurveyed, those portions lying northerly and easterly of the Gunnison/Mesa County boundary;

Secs. 12 and 13, unsurveyed, those portions lying easterly of the Gunnison/Mesa County boundary;

Sec. 22, unsurveyed, that portion lying southeasterly of the Gunnison/Mesa County boundary;

Sec. 23, unsurveyed, that portion lying southerly of the Gunnison/Mesa County boundary;

Sec. 24, unsurveyed, that portion lying southeasterly of the Gunnison/Mesa County boundary;

Secs. 25 and 26, unsurveyed;

Secs. 27, 28, and 31, unsurveyed, those portions lying southeasterly of the Gunnison/Mesa County boundary;

Sec. 32, unsurveyed, that portion lying southerly of the Gunnison/Mesa County boundary;

Sec. 33, unsurveyed, that portion lying southeasterly of the Gunnison/Mesa County boundary;

Secs. 34, 35, and 36.

T. 10 S., R. 90 W.,

Secs. 1, 2, and 3;

Secs. 4 and 5, unsurveyed;

Sec. 6, unsurveyed, that portion lying southeasterly of the Gunnison/Mesa County boundary;

Secs. 7, 8, and 9, unsurveyed;

Secs. 10 thru 15;

Secs. 16 thru 21, unsurveyed;

Secs. 22 thru 25 and 36.

T. 11 S., R. 90 W.,

Sec. 1, lots 1, 2, 7, 8, 9, 14, and 15 and W½SE¼;

T. 14 S., R. 90 W.,

Sec. 5, W½SW¼;

Sec. 6, lots 3, 4, and 5, and SE¼NW¼, excepting H.E.S. No. 204;

Sec. 8, W½ and S½SE¼, excepting H.E.S. Nos. 86, 87 and 104;

Sec. 9, S½SW¼;

Sec. 16, W½NE¼, W½, and SW¼SE¼;

Sec. 17, excepting H.E.S. Nos. 86 and 87;

Sec. 18, excepting H.E.S. Nos. 85 and 87;

Secs. 19 and 20;

Sec. 21, W½NE¼, W½, and SE¼;

Sec. 22, S½SW¼ and S½SE¼;

Sec. 27, that portion lying northerly and westerly of the West Elk Wilderness Area boundary;

Sec. 28;

Sec. 29, N½, N½SW¼, and SE¼;

Sec. 30, lot 1, N½NE¼, and NE¼NW¼.

T. 15 S., R. 90 W.,

Secs. 5 and 6, unsurveyed, those portions lying westerly of the West Elk Wilderness Area boundary;

Sec. 7, unsurveyed;

Secs. 8, unsurveyed, that portion lying westerly of the West Elk Wilderness Area boundary;

Sec. 16, unsurveyed, that portion lying southerly of the West Elk Wilderness Area boundary;

Sec. 17, unsurveyed, that portion lying westerly of the West Elk Wilderness Area boundary;

Secs. 18 and 19, unsurveyed;

Sec. 20, unsurveyed, that portion lying southwesterly of the West Elk Wilderness Area boundary, excepting H.E.S. No. 49;

Sec. 21, unsurveyed, that portion lying southerly of the West Elk Wilderness Area boundary;

Secs 22 and 27, unsurveyed, those portions lying westerly of the West Elk Wilderness Area boundary;

Secs. 28 and 29, unsurveyed, excepting H.E.S. No. 49;

Sec. 30, unsurveyed, excepting H.E.S. No. 173;

Secs. 31, 32, and 33, unsurveyed;

Sec. 34, unsurveyed, that portion lying westerly of the West Elk Wilderness Area boundary.

T. 10 S., R. 91 W.,

Sec. 1, unsurveyed, those portions lying southerly of the Gunnison/Mesa County boundary and those portions lying easterly of the of Gunnison/Delta County boundary;

Secs. 12, 13, and 24, unsurveyed, those portions lying easterly of the Gunnison/Delta County boundary;

T. 14 S., R. 91 W.,

Secs. 13 and 24, those portions lying easterly of the Gunnison/Delta County boundary.

T. 15 S., R. 91 W.,

Secs. 1, 12, and 13, those portions lying easterly of the Gunnison/Delta County boundary;

Sec. 24, lots 1, 4, 5, and 13, those portions lying easterly of the Gunnison/Delta County boundary;

Sec. 25, S½SE¼NE¼NE¼, SE¼SE¼, E½SE¼, those portions lying easterly of the Gunnison/Delta County boundary;

Sec. 36, that portion lying easterly of the Gunnison/Delta County boundary.

The areas described aggregate 200,518.28 acres, more or less.

Public Lands

Sixth Principal Meridian, Colorado

T. 13 S., R. 86 W.,

Sec. 20, lots 1 thru 4 and SW¼.

T. 7 S., R. 88 W.,

Sec. 20, lot 3, that part lying westerly of the easterly ordinary high-water mark, an ambulatory line, of the Roaring Fork River.

T. 8 S., R. 88 W.,

Sec. 7;

Sec. 8, lots 3 thru 5, lots 8 thru 11, SW¼NE¼, SE¼NW¼, NE¼SW¼, and NW¼SE¼;

Sec. 9, E½SE¼;

Sec. 15, W½SW¼;

Sec. 16, S½;

Sec. 17, lots 2 thru 5 and lots 8 and 9, SE¼NW¼, E½SW¼;

Secs. 18 and 19;

Sec 20, lots 2 thru 8, SW¼NE¼, E½SW¼, and W½SE¼;

Sec. 21, lots 1 and 2 and NW¼ ;

Sec. 22, W½NW¼;

Sec. 28, W½NW¼, W½SW¼, and SE¼SW¼;

Secs. 29 thru 32;

Sec. 33, W½ and SE¼.

T. 6 S., R. 89 W.,

Sec. 28, SW¼SE¼, that part lying southerly of the Fourmile Creek subwatershed boundary;

Sec. 33, W½NE¼, SE¼NE¼, and SE¼;

Sec. 34, SW¼SW¼.

T. 7 S., R. 89 W.,

Sec. 3, lot 1, SE¼NE¼, E½NW¼SE¼, E½W½NW¼SE¼, and E½SE¼;

Sec. 4, that part lying southerly and easterly of the Fourmile Creek subwatershed boundary;

Sec. 5, E½SE¼, that part lying southeasterly of the Fourmile Creek subwatershed boundary;

Sec. 9, NW¼NE¼, N½NW¼, E½SW¼, SW¼SE¼;

Sec. 11, W½NW¼NW¼ and SW¼NW¼;

Sec. 12, lot 22 and W½SW¼;

Sec. 13, NW¼;

Sec. 15, lots 16 and 17 and SW¼SW¼;

Sec. 16, NW¼NE¼, E½NW¼, NE¼SE¼, and S½SE¼;

Sec. 35, lot 7, SE¼NE¼, SE¼SW¼, and SE¼;

Sec. 36, S½NW¼ and SW¼.

T. 8 S., R. 89 W.,

Sec. 1, lots 1 thru 4, S½NE¼, S½SW¼, and SE¼;

Sec. 2, lots 1 thru 4, S½NE¼, S½NW¼, and N½SW¼;

Secs. 12, 13, and 24;

Sec. 25, N½, E½SW¼, and SE¼;

Sec. 26, E½NE¼ and SW¼NE¼;

Sec. 35, E½NE¼ and SE¼

Sec. 36.

T. 13 S., R. 89 W.,

Sec. 9, lot 10, that part lying southerly and easterly of the northwesterly ordinary high-water mark, an ambulatory line, of the Anthracite Creek;

Sec. 10, lots 11 thru 14.

T. 7 S., R. 90 W.,

Sec. 24, lot 3 and NW¼SE¼, those portions lying south of the Fourmile Creek subwatershed boundary;

Sec. 25, SE¼NW¼ and NE¼SW¼;

Sec. 26, E½SE¼, that part lying southeasterly of the Fourmile Creek subwatershed boundary;

Sec. 34, SE¼, that part lying south and east of the Fourmile Creek subwatershed boundary;

Sec. 35, E½, that part lying south and east of the Fourmile Creek subwatershed boundary;

Sec. 36, lot 4, W½SW¼, and SE¼SW¼.

T. 13 S., R. 90 W.,

Sec. 31, lots 5 thru 7 and lots 10 and 12.

T. 14 S., R. 90 W.,

Sec. 6, lots 1, 2, 6, and 7, S½NE¼, E½SW¼, and SE¼, except HES 104;

Sec. 7, except HES 87 and 104.

T. 13 S., R. 91 W.,

Sec. 25, lots 1, 9, and 16, those portions lying east of the Delta/Gunnison County line;

Sec. 36, lots 1, 8, and 9, those portions lying east of the Delta/Gunnison County line.

T. 14 S., R. 91 W.,

Sec. 1, E½SE¼, that portion lying east of the Delta/Gunnison County line;

Sec. 12, E½NE¼ and E½SE¼, those portions lying east of the Delta/Gunnison County line.

The areas described aggregate 15,464.99 acres, more or less.

Non-Federal Surface Lands, With Federal Subsurface Interest

New Mexico Principal Meridian, Colorado

T. 50 N., R. 6 W.,

Sec. 2, E½SE¼, that part lying east of the Montrose/Gunnison County boundary.

T. 51 N., R. 5.5 W.,

Sec. 26, lots 5 thru 8;

Sec. 35, lots 1 thru 8.

T. 51 N., R. 6 W.,

Sec. 11, lot 1, that part lying east of the Delta/Gunnison County boundary;

Sec. 12;

Sec. 13, N½NE¼, SW¼NE¼, E½NW¼;

Sec. 14, W½NE¼ and E½SE¼, those portions lying east of the Delta/Gunnison County boundary;

Sec. 23, E½NE¼, that part lying east of the Delta/Gunnison County boundary, and E½SE¼, that part lying east of the Delta and Montrose/Gunnison County boundary;

Sec. 24, SW¼NE¼ and NW¼;

Sec. 25, S½NE¼, S½NW¼, and S½;

Sec. 26, E½NE¼ and E½SE¼, those portions lying east of the Montrose/Gunnison County boundary;

Sec. 35, E½NE¼ and E½SE¼, those portions lying east of the Montrose/Gunnison County boundary;

Sec. 36.

Sixth Principal Meridian, Colorado

T. 8 S., R. 88 W.,

Sec. 8, lot 12;

Sec. 17, lots 1, 6, 7, and 10, SW¼NE¼, and W½SE¼;

Sec. 20, lot 1, NW¼NE¼, and E½NW¼;

Sec. 21, E½SW¼, W½SE¼, and NE¼SE¼;

Sec. 28, W½NE¼, E½NW¼, NE¼SW¼, and W½SE¼;

Sec. 33, NE¼.

T. 6 S., R. 89 W.,

Sec. 34, SW¼SE¼;

T. 7 S., R. 89 W.,

Sec. 1, lots 26, 27, and 34, that part lying southwesterly of the northeasterly high-water mark, an ambulatory line, of the Roaring Fork River;

Sec. 2, lots 6, 7, and 17, NW¼SW¼, and S½SW¼;

Sec. 3, W½W½NW¼SE¼;

Sec. 11, NE¼, E½NW¼, E½NW¼NW¼, N½SW¼, SE¼SW¼, and SE¼;

Sec. 13, W½SW¼;

Sec. 14, E½, E½NW¼, and NW¼NW¼;

Sec. 15, lots 4 and 8 (other min.);

Sec. 23, lots 6, 7, 11, and 14 (other min.);

Sec. 24, NW¼SW¼ and S½SW¼;

Sec. 25, N½NW¼, SW¼NW¼, and W½SW¼;

Sec. 26 lot 14 and NE¼SE¼ (coal only);

Sec. 33, SW¼NE¼, E½NW¼, and NE¼SW¼;

Sec. 35, lots 1 and 2 (coal only);

Sec. 36, NW¼NW¼ (coal only).

T. 8 S., R. 89 W.,

Sec. 28, NE¼SW¼ (coal only).

T. 10 S., R. 89 W.,

Sec. 10, S½S½SW¼SW¼, S½S½SE¼SW¼, SE¼SE¼NE¼SE¼, S½S½SW¼SE¼, and SE¼SE¼;

Sec. 11, SW¼SW¼, except a parcel of land as described in special warranty deed recorded under document No. 405835 on June 30, 1997, Pitkin County, Colorado;

Sec. 15, N½NE¼NE¼, N½SW¼NE¼NE¼, N½NW¼NE¼, N½S½NW¼NE¼, NE¼NW¼, N½NW¼NW¼, and N½S½NW¼NW¼.

T. 11 S., R. 89 W.,

Sec. 9, S½NE¼NE¼, SE¼SW¼NE¼, N½SE¼NE¼, SW¼SE¼NE¼, E½NE¼SW¼, and NW¼SE¼ (coal only);

Sec. 10, NW¼NW¼ (coal only).

T. 13 S., R. 89 W.,

Sec. 2, lot 36, that part lying southerly and easterly of the northwesterly ordinary high-water mark, an ambulatory line, of the Anthracite Creek;

Sec. 11, lot 1, lot 2, that part lying southerly and easterly of the northwesterly ordinary high-water mark, an ambulatory line, of the Anthracite Creek, lots 5 thru 9, SE¼NE¼, SE¼SW¼, NE¼SE¼, and S½SE¼;

Sec. 12.

T. 7 S., R. 90 W.,

Sec. 24, lot 4, E1/.2SW¼, and SW¼SE¼, those portions lying south and east of the Fourmile Creek subwatershed boundary;

Sec. 25, lots 1 thru 4, W½NE¼, N½NW¼, SW¼NW¼, W½SW¼, SE¼SW¼, and W½SE¼, those portions lying southeasterly of the Fourmile Creek subwatershed boundary;

Sec. 34, SE¼NE¼, that part lying easterly of the Fourmile Creek subwatershed boundary;

Sec. 35, W½, that part lying southerly of the Fourmile Creek subwatershed boundary;

Sec. 36, lots 1 and 2, W½NE¼, NW¼, NE¼SW¼, W½SE¼.

T. 13 S., R. 91 W.,

Sec. 24, E½NE¼ and E½SE¼, those portions lying east of the Delta/Gunnison County boundary;

Sec. 25, lot 8, that part lying east of the Delta/Gunnison County boundary.

The areas described aggregate 8,810.46 acres, more or less.

Non-Federal Lands With No Surface or Sub-Surface Interest

New Mexico Principal Meridian, Colorado

T. 50 N., R. 6 W.,

Sec. 2, lot 1 and SE¼NE¼, those portions lying east of the Montrose/Gunnison County boundary.

Sixth Principal Meridian, Colorado

T. 13 S., R. 86 W.,

M.S. Nos. 3831, 3832, 4243, 4469, 4472, 4767, 4768, 5600, 7129, 8496 and 12805, those portions lying within sec. 30.

T. 14 S., R. 86 W.,

Sec. 28, SW¼NW¼ and NW¼SW¼;

Sec. 29, SE¼NE¼ and NE¼SE¼.

T. 13 S., R. 87 W.,

M.S. Nos. 2694, 2721, and 2867, those portions lying southerly of the Raggeds Wilderness Area;

M.S. Nos. 745, 1109, 1110, 1112, 1156, 1286, 2693, M.S. Nos. 2695 thru 2703, M.S. Nos. 2709, 2724, 2731, 2753, 2754, 2786, 2801, 2813, 2814, 2829, 2863, 2935, 3082, 3299, 3386, 3390, 3440, 3466, 3467, 3470 A&B, 3471 A&B, 3503, 3504, 3511, 3716, 3728, 3729, 3737, 3768, 3804, 3831, 3831, 4005, 4124, 4149, 4236, 4257, 4258, 4421, M.S. Nos. 4446 thru 4449, and M.S. Nos. 4955, 5146, 5147, 5322, 5342, 5343, 5511, 5520, 5870, 6382, 7123, 7856, 8067, 14344, 14392, 15668, 17240, 17714, 17918, 17919, 20023, 20024, and 20926;

Irwin Townsite;

S.T.A. Nos. 0440 thru 0442.

T. 14 S., R. 87 W.,

Sec. 9, S½;

Sec. 10, S½SW¼;

Sec. 15, NW¼;

Secs. 16 thru 18;

Sec. 20, N½NE¼ and NE¼NW¼;

M.S. Nos. 745, 1209, 1384, M.S. Nos. 2695 thru 2700, and M.S. Nos. 2989, 3137, 3542, 3736 A, 3737, 3768, 3801, 3802, 4257, 4401, 4257, 4955, 15096, and 19527;

Irwin Townsite.

T. 7 S., R. 88 W.,

Secs. 18, and 19, those portions lying westerly of the easterly ordinary high-water mark, an ambulatory boundary, of the Roaring Fork River;

Sec. 20, lots 2, 8, 9, 10, 13, 14, and 15, those portions lying westerly of the easterly ordinary high-water mark, an ambulatory boundary, of the Roaring Fork River;

Sec. 28, lots 11 thru 14, those portions lying westerly of the easterly ordinary high-water mark, an ambulatory boundary, of the Crystal River, and lot 25, that part lying westerly of the easterly ordinary high-water mark, an ambulatory boundary, of the Crystal River, and the easterly ordinary high-water mark, an ambulatory boundary, of the Roaring Fork River;

Sec. 29, that part lying westerly of the easterly ordinary high-water mark, an ambulatory boundary, of the Roaring Fork River;

Secs. 30 thru 32;

Sec. 33, that part lying westerly of the easterly ordinary high-water mark, an ambulatory boundary, of the Crystal River.

T. 8 S., R. 88 W.,

Secs. 3 and 4, those portions lying westerly of the easterly ordinary high-water mark, an ambulatory boundary, of the Crystal River;

Secs. 5 and 6;

Sec. 8, lots 1, 2, 6, and 7;

Sec. 9, N½, SW¼, and W½SE¼;

Sec. 10, that part lying westerly of the easterly ordinary high-water mark, an ambulatory boundary, of the Crystal River;

Sec. 15, lots 1 thru 10, lots 12 thru 15, and W½NW¼, those portions lying westerly of the easterly ordinary high-water mark, an ambulatory boundary, of the Crystal River;

Sec. 16, N½;

Sec. 21, NE¼, and SE¼SE¼;

Sec. 22, that part lying westerly of the easterly ordinary high-water mark, an ambulatory boundary, of the Crystal River, except the W½NW¼;

Sec. 27, lots 2 thru 8 and lots 11 thru 15, those portions lying westerly of the easterly ordinary high-water mark, an ambulatory boundary, of the Crystal River;

Sec. 28, E½NE¼ and E½SE¼;

Sec. 34, NW¼NE¼ and W½, those portions lying westerly of the easterly ordinary high-water mark, an ambulatory boundary, of the Crystal River.

T. 9 S., R. 88 W.,

Sec. 3, lot 4 and SW¼SW¼, those portions lying westerly of the easterly ordinary high-water mark, an ambulatory boundary, of the Crystal River;

Sec. 4, lot 1 and E½SE¼SE¼;

Sec. 9, E½SE¼, that part lying westerly of the easterly ordinary high-water mark, an ambulatory boundary, of the Crystal River;

Sec. 10, NW¼NW¼, that part lying westerly of the easterly ordinary high-water mark, an ambulatory boundary, of the Crystal River;

Sec. 16, N½NE¼, SW¼NE¼, E½SW¼, SW¼NW¼SE¼, and SW¼SE¼, those portions lying westerly of the easterly ordinary high-water mark, an ambulatory boundary, of the Crystal River;

Sec. 21, NE¼NW¼, that part lying westerly of the easterly ordinary high-water mark, an ambulatory boundary, of the Crystal River, SW¼NW¼, and a parcel of land as described in book 713, page 309, recorded on May 27, 1993, Pitkin County, Colorado;

Sec. 29, S½NE¼ and SE¼, those portions lying westerly of the easterly ordinary high-water mark, an ambulatory boundary, of the Crystal River;

Sec. 32, N½NE¼, that part lying westerly of the easterly ordinary high-water mark, an ambulatory boundary, of the Crystal River;

Sec. 33, lots 11 and 14, those portions lying westerly of the easterly ordinary high-water mark, an ambulatory boundary, of the Crystal River;

M.S. Nos. 5443 A&B;

H.E.S. No. 370.

T. 10 S., R. 88 W.,

Sec. 4, lot 3, SE¼NW¼, and E½SW¼, those portions lying westerly of the easterly ordinary high-water mark, an ambulatory boundary, of the Crystal River;

Sec. 9, N½NW¼ and SW¼NW¼, those portions lying westerly of the easterly ordinary high-water mark, an ambulatory boundary, of the Crystal River;

Sec. 17, E½NE¼, SE¼NE¼, and S½, those portions lying westerly of the easterly ordinary high-water mark, an ambulatory boundary, of the Crystal River;

Sec. 18, SE¼;

Sec. 19, NE¼NE¼;

Sec. 20, that portion lying westerly of the easterly ordinary high-water mark, an ambulatory boundary, of the Crystal River;

Sec. 29, NW¼ and W½SW¼, those portions lying westerly of the easterly ordinary high-water mark, an ambulatory boundary, of the Crystal River;

M.S. No. 5443 A.

T. 11 S., R. 88 W.,

Sec. 6, lots 2, 7 and 10, those portions not reconveyed to the United States as described in special warranty deed in book 788, page 29, recorded July 24, 1995, Pitkin county, Colorado, and lot 9, all those portions lying westerly of the easterly ordinary high-water mark, an ambulatory boundary, of the Crystal River;

Sec. 7, lot 1 and NE¼NW¼, those portions lying westerly of the easterly ordinary high-water mark, an ambulatory boundary, of the Crystal River and north of the Pitkin/Gunnison County boundary.

T. 12 S., R. 88 W.,

Sec. 30, NE¼NE¼.

T. 6 S., R. 89 W.,

Sec. 27, SW¼SW¼, that part lying southwesterly of Fourmile Creek subwatershed boundary;

Sec. 28, SE¼SW¼ and SE¼SE¼, those portions lying easterly and southerly of Fourmile Creek subwatershed boundary;

Sec. 33, NE¼NE¼ and W½, that part lying easterly of Fourmile Creek subwatershed boundary;

Sec. 34, N½, N½SW¼, SE¼SW¼, N½SE¼, and SE¼SE¼, those portions lying southerly and westerly of Fourmile Creek subwatershed boundary;

Sec. 35, that part lying southerly of the northerly ordinary high-water mark, an ambulatory line, of the Roaring Fork River;

Sec. 36, that part lying southerly of the northerly ordinary high-water mark, an ambulatory line, of the Roaring Fork River.

T. 7 S., R. 89 W.,

Sec. 1, that part lying westerly of the easterly ordinary high-water mark, an ambulatory line, of the Roaring Fork River, except lots 26, 27 and 34;

Sec. 2, lots 1 thru 5, lots 8 thru 16, and lots 18 thru 22;

Sec. 3, lots 2 thru 4, SW¼NE¼, S½NW¼, SW¼, and SW¼SE¼;

Sec. 8, that part lying southerly and easterly of the Fourmile Creek subwatershed boundary;

Sec. 9, lots 1 thru 7, NE¼NE¼, SW¼NE¼, S½NW¼, W½SW¼, and NW¼SE¼;

Sec. 10;

Sec. 11, SW¼SW¼;

Sec. 12, that part lying westerly of the easterly ordinary high-water mark, an ambulatory line, of the Roaring Fork River, except lot 22 and W½SW¼;

Sec. 13, lots 1 thru 16 and E½SW¼;

Sec. 14, SW¼NW¼ and SW¼;

Sec. 15, lots 1 thru 3, lots 5 thru 7, lots 9 thru 15, lots 18 thru 23, N½NE¼, SE¼NE¼, and NE¼SE¼;

Sec. 16, lots 1 and 2, S½NE¼, W½NW¼, SW¼, NW¼SE¼;

Sec. 21, S½NE¼ and E½SE¼;

Sec. 22;

Sec. 23, lots 1 thru 5, lots 8 thru 10, lots 12 and 13, E½, N½NW¼, and SE¼NW¼;

Sec. 24, lots 1 and 2, NW¼NE¼, S½NE¼, NW¼, NE¼SW¼, SE¼;

Sec. 25, NE¼, SE¼NW¼, E½SW¼, and SE¼;

Sec. 26, lots 1 thru 13, lots 15 thru 18, NE¼, SW¼SW¼, and NW¼SE¼;

Sec. 27;

Sec. 28, SE¼SE¼;

Sec. 31, lots 2, 6, and 7, S½SW¼NE¼, SW¼SW¼NE¼NW¼, SW¼NE¼SE¼NW¼, NW¼SE¼NW¼, and S½SE¼NW¼;

Sec. 32, NW¼NE¼, S½NE¼, SE¼NW¼, and NE¼SW¼;

Sec. 33, E½NE¼, SW¼NW¼, W½SW¼, and SE¼;

Sec. 34;

Sec. 35, lots 3 thru 6, W½NW¼, N½SW¼, and SW¼SW¼;

Sec. 36, NE¼, NE¼NW¼, and SE¼.

T. 8 S., R. 89 W.,

Sec. 1, S½NW¼ and N½SW¼;

Sec. 2, S½SW¼ and SE¼;

Sec 3, lots 3 and 4, S½NW¼, NE¼SW¼, S½SW¼, NW¼SE¼, and S½SE¼;

Sec 4, lot 1 and SE¼NE¼;

Sec. 9, N½NE¼, SW¼NE¼, and SE¼NW¼;

Sec. 10, E½, E½NW¼, NE¼SW¼, and S½SW¼;

Secs. 11 and 14;

Sec. 15, E½, N½NW¼, and SE¼SW¼;

Sec. 16, NE¼NE¼;

Sec. 17, N½SE¼ and SE¼SE¼;

Sec. 20, NE¼NE¼;

Sec. 22, E½ and NE¼NW¼;

Sec. 23;

Sec. 25, W½SW¼;

Sec. 26, NW¼NE¼, NW¼, S½;

Sec. 27, E½;

Sec. 28, NW¼ and NW¼SW¼;

Sec. 29, S½SW¼NE¼, SE¼NE¼, N½SW¼, N½N½SW¼SW¼, N½N½SE¼SW¼, and SE¼;

Sec. 30, S½NE¼ and N½SE¼;

Sec. 34, E½ and E½NW¼;

Sec. 35, W½NE¼ and W½.

T. 9 S., R. 89 W.,

Sec. 1, S½NE¼, NE¼SW¼, NW¼SE¼, and SE¼SE¼;

Sec. 2, W½;

Sec. 3, E½;

Sec. 10, NE¼, N½SE¼, and SW¼SE¼;

Sec. 11, W½ and SW¼SE¼;

Sec. 12, E½NE¼, SW¼, and E½SE¼;

Sec. 14, W½NE¼, E½NW¼, E½SW¼, and W½SE¼;

Sec. 15, NW¼NE¼;

Sec. 23, W½NE¼, E½NW¼, SW¼, and W½SE¼;

Sec. 26, W½NE¼ and W½;

Sec. 27, SE¼SW¼;

Sec. 34, S½NE¼, E½NW¼, NE¼SW¼, NW¼SE¼, and S½SE¼;

Sec. 35, NW¼ and E½SW¼.

T. 10 S., R. 89 W.,

Sec. 2, lots 3 and 4 and SW¼NW¼;

Sec. 3, lots 1 and 2;

Sec. 4, SE¼NE¼, N½SE¼, and SE¼SE¼.

T. 7 S., R. 90 W.,

Sec. 36, Lot 3.

T. 13 S., R. 90 W.,

Sec. 31, lot 9.

The areas described aggregate approximately 35,472.94 acres.

The areas described, including both Federal and non-Federal lands, aggregate approximately 260,266.67 acres.

The Secretary of the Interior has approved the petition to file the withdrawal application. The Secretary's approval constitutes her proposal to withdraw the subject lands. The USDA Forest Service has consented to proposing the withdrawal of lands under its administrative jurisdiction. (43 CFR 2310.1-3(e)).

The use of a right-of-way, interagency agreement, or cooperative agreement, or surface management under 43 CFR part 3800, subpart 3809 regulations would not adequately constrain non-discretionary uses and would not provide adequate protection of cultural, recreational, and biological resources, nor the financial investments in public campgrounds and other improvements on these lands.

There are no suitable alternative sites, as the described lands contain the resource values that need protection.

Water rights will not be needed to fulfill the purpose of the proposed withdrawal.

For a period of 90 days from the date of publication of this notice, all persons who wish to submit comments, suggestions, or objections in connection with the proposed withdrawal may present their views in writing to the BLM Colorado State Director at the address listed above (see ADDRESSES).

Comments, including names and street addresses of respondents, will be available for public review at the BLM Colorado State Office during regular business hours, 7:45 a.m. to 4:15 p.m. Monday through Friday, except Federal holidays. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives of officials of organizations or businesses, will be made available for public inspection in their entirety.

Notice of a public meeting will be announced in at least one newspaper of general circulation in the area of the proposed withdrawal at least 30 days before the scheduled date of the meeting. A public meeting is scheduled for December 14, 2022.

For a period until October 17, 2024, subject to valid existing rights, the lands and mineral interests in this notice will be segregated from all forms of entry, appropriation, and disposal under the public land laws; location and entry under the mining laws; and operation of the mineral leasing, mineral materials, and geothermal leasing laws, subject to valid existing rights, unless the proposal is canceled or the withdrawal is approved prior to that date..

Licenses, permits, cooperative agreements, or discretionary land use authorizations of a temporary nature may be allowed with the approval of the authorized officers of the USDA Forest Service or the BLM during the segregation period.

This withdrawal proposal will be processed in accordance with the regulations set forth in 43 CFR part 2300.

(Authority: 43 CFR 2310.3-1(a))

Douglas J. Vilsack,
BLM Colorado State Director.

[FR Doc. 2022-22448 Filed 10-14-22; 8:45 am]

BILLING CODE 4310-JB-P